DEPARTMENT OF COMMERCE

International Trade Administration

[A-533-906]

Sodium Nitrite From India: Final Results of Antidumping Duty Administrative Review; 2022-2024

AGENCY: Enforcement and Compliance, International Trade Administration, Department of Commerce.

SUMMARY: The U.S. Department of Commerce (Commerce) determines that Deepak Nitrite Limited (Deepak) did not make sales of subject merchandise at less than normal value during the period of review (POR) from August 17, 2022, through January 31, 2024.

DATES: Applicable February 12, 2026.

FOR FURTHER INFORMATION CONTACT: Joy Zhang, AD/CVD Operations, Office III, Enforcement and Compliance, International Trade Administration, U.S. Department of Commerce, 1401 Constitution Avenue NW, Washington, DC 20230; telephone: (202) 482-1168.

SUPPLEMENTARY INFORMATION:

Background

On June 4, 2025, Commerce published in the Federal Register the preliminary results of the administrative review of the antidumping duty (AD) order on sodium nitrite from India.¹ On July 18, 2025, Commerce issued a post-preliminary analysis in this administrative review and invited interested parties to comment.² On September 24, 2025, pursuant to section 751(a)(3)(A) of the Tariff Act of 1930, as amended (the Act), Commerce extended the time period for issuing the final results of this review by an additional 60 days, until December 1, 2025.³

¹ See Sodium Nitrite From India: Preliminary Results and Partial Rescission of Antidumping Duty Administrative Review; 2022-2024, 90 FR 23673 (June 4, 2025) (Preliminary Results), and accompanying Preliminary Decision Memorandum.

² See Memorandum, “Post-Preliminary Analysis for the Administrative Review of Sodium Nitrite from India; 2022-2024,” dated July 18, 2025; see also Memorandum, “Briefing Schedule for Post-Preliminary Results,” dated July 21, 2025.

³ See Memorandum, “Extension of Deadline for Final Results of Antidumping Duty Administrative Review,” dated September 24, 2025.

Due to the lapse in appropriations and Federal Government shutdown, on November 14, 2025, Commerce tolled all deadlines in administrative proceedings by 47 days.⁴ Additionally, due to a backlog of documents that were electronically filed via Enforcement and Compliance's Antidumping and Countervailing Duty Centralized Electronic Service System (ACCESS) during the Federal Government shutdown, on November 24, 2025, Commerce tolled all deadlines in administrative proceedings by an additional 21 days.⁵ Accordingly, the deadline for these final results is now February 9, 2026.

⁴ See Memorandum, “Deadlines Affected by the Shutdown of the Federal Government,” dated November 14, 2025.

⁵ See Memorandum, “Tolling of all Case Deadlines,” dated November 24, 2025.

For a complete description of the events that occurred since the Preliminary Results and Post-Preliminary Analysis, see the Issues and Decision Memorandum. A full discussion of the issues raised by parties for these final results are discussed in the Issues and Decision Memorandum.⁶ The Issues and Decision Memorandum is a public document and is on file electronically via ACCESS. ACCESS is available to registered users at https://access.trade.gov. In addition, a complete version of the Issues and Decision Memorandum can be accessed directly at https://access.trade.gov/public/FRNoticesListLayout.aspx.

⁶ See Memorandum, “Issues and Decision Memorandum for the Final Results of the Antidumping Duty Administrative Review of Sodium Nitrite from India; 2022-2024,” dated concurrently with, and hereby adopted by, this notice (Issues and Decision Memorandum).

Scope of the Order ⁷

⁷ See Sodium Nitrite from India: Antidumping Duty and Countervailing Duty Orders, 88 FR 12313 (February 27, 2023) (Order).

The product covered by the scope of the Order is sodium nitrite from India. For a complete description of the scope of the Order, see the Issues and Decision Memorandum.

Analysis of Comments Received

All issues raised in the case and rebuttal briefs submitted by interested parties in this review are addressed in the Issues and Decision Memorandum. A list of the issues addressed in the Issues and Decision Memorandum is attached in the appendix to this notice.

Changes Since the Preliminary Results

Based on a review of the record and comments received from interested parties regarding our Preliminary Results, we made certain changes to Deepak's weighted-average dumping margin calculations. For a discussion of these changes, see the Issues and Decision Memorandum.

Final Results of Administrative Review

We determine that the following estimated weighted-average dumping margin exists for the period August 17, 2022, through January 31, 2024:

Producer or exporter | Weighted- average dumping margin (percent)
Deepak Nitrite Limited | 0.00

Disclosure

Commerce intends to disclose the calculations and analysis performed in connection with the final results of this administrative review to interested parties within five days of any public announcement or, if there is no public announcement, within five days of the publication date of this notice in the Federal Register, in accordance with 19 CFR 351.224(b).

Assessment Rates

Pursuant to section 751(a)(2)(C) of the Act and 19 CFR 351.212(b), Commerce shall determine, and U.S. Customs and Border Protection (CBP) shall assess, antidumping duties on all appropriate entries of subject merchandise in accordance with the final results of this review. Because the weighted-average dumping margin for Deepak is zero, we will instruct CBP to liquidate appropriate entries without regard to antidumping duties in accordance with the Final Modification for Reviews.⁸ For entries of subject merchandise during the POR produced by Deepak for which it did not know that the merchandise was destined to the United States, we will instruct CBP to liquidate those entries at the all-others rate established in the original less-than-fair-value (LTFV) investigation of 42.76 percent,⁹ if there is no rate for the intermediate company(ies) involved in the transaction.¹⁰

⁸ See Antidumping Proceedings: Calculation of the Weighted-Average Dumping Margin and Assessment Rate in Certain Antidumping Duty Proceedings; Final Modification, 77 FR 8101 (February 14, 2012) (Final Modification for Reviews) at 8103; see also 19 CFR 351.106(c)(2).

⁹ See Order, 88 FR at 12314.

¹⁰ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).¹¹

¹¹ See 19 CFR 351.212(c)(2).

Cash Deposit Requirements

The following cash deposit requirements will be effective for all shipments of subject merchandise entered, or withdrawn from warehouse, for consumption on or after the publication date of the final results of this administrative review in the Federal Register, as provided for by section 751(a)(2) of the Act: (1) the cash deposit rate for companies subject to this review will be the rates established in these final results of the review; (2) for merchandise exported by producers or exporters not covered in this review but covered in a prior segment of the proceeding, the cash deposit rate will continue to be the company-specific rate published for the most recent period; (3) if the exporter is not a firm covered in this review, a prior review, or the original investigation but the producer is, then the cash deposit rate will be the rate established for the most recent period for the producer of the merchandise; (4) the cash deposit rate for all other producers or exporters will continue to be 42.76 percent, the all-others rate established in the LTFV investigation.¹² These cash deposit requirements, when imposed, shall remain in effect until further notice.

¹² See Order, 88 FR at 12314.

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties has occurred and the subsequent assessment of double antidumping duties and/or an increase in the amount of antidumping duties by the amount of the countervailing duties.

Notification Regarding Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing this notice in accordance with sections 751(a)(1) and 777(i)(1) of the Act, and 19 CFR 351.221(b)(5).

Dated: February 9, 2026.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issue

Comment: Whether to Disallow Deepak's By-Product Offset for Sodium Nitrite

VI. Recommendation

[FR Doc. 2026-02828 Filed 2-11-26; 8:45 am]

BILLING CODE 3510-DS-P